OFFICE OF THE UNITED STATES TRADE REPRESENTATIVE

Request for Public Comments To Compile the Report on Sanitary and Phytosanitary Measures

AGENCY: Office of the United States Trade Representative.

ACTION: Notice and Request for Comments.

SUMMARY: Pursuant to section 181 of the Trade Act of 1974, as amended (19 U.S.C. 2241), the Office of the United States Trade Representative (USTR) will be publishing in 2014 the Report on Sanitary and Phytosanitary Measures. With this notice, the Trade Policy Staff Committee (TPSC) is requesting interested persons to submit comments to assist it in identifying significant sanitary and phytosanitary barriers to U.S. exports of goods for inclusion in the report.

The TPSC invites written comments from the public on issues that USTR should examine in preparing the 2014 SPS Report.

DATES: Public comments are due not later than November 15, 2013.

ADDRESSES: Submissions should be made via the Internet at www.regulations.gov under the following dockets (based on the subject matter of the submission): USTR-2013-0033.

The public is strongly encouraged to file submissions electronically rather than by facsimile or mail.

FOR FURTHER INFORMATION CONTACT: Questions regarding the SPS Report or substantive questions or comments concerning SPS measures should be directed to Jane Doherty, Director of Sanitary and Phytosanitary Affairs, USTR (202-395-6127).

SUPPLEMENTARY INFORMATION: The SPS Report sets out an inventory of SPS barriers to trade. This inventory facilitates U.S. negotiations aimed at reducing or eliminating these barriers. The report also provides a valuable tool in enforcing U.S. trade laws and strengthening the rules-based trading system. The 2013 and earlier SPS Reports may be found on USTR's Internet Home Page (http://www.ustr.gov) under “USTR News” under the tab “Reports”.

To ensure compliance with the applicable statutory mandate and the Obama Administration's commitment to focus on the most significant SPS barriers to trade, USTR will be guided by the existence of active private sector interest in deciding which restrictions to include in the SPS Report.

Topics on which the TPSC Seeks Information: To assist USTR in the preparation of the SPS Report, commenters should submit information related to SPS measures. Such measures should constitute significant barriers to U.S. exports.

SPS Report: On April 2, 2013, USTR released a report focusing on SPS trade barriers (SPS Report). USTR also released SPS Reports in 2012, 2011 and 2010. These reports serve as tools to bring greater attention and focus to addressing SPS measures that may be inconsistent with international trade agreements to which the United States is a party or that otherwise act as significant barriers to U.S. exports. USTR plans to use comments on SPS submitted pursuant to this notice in producing the report.

The following information describing SPS measures may help commenters to file submissions on particular foreign trade barriers under the SPS docket.

SPS Measures: Generally, SPS measures are measures applied to protect the life or health of humans, animals, and plants from risks arising from additives, contaminants, pests, toxins, diseases, or disease-carrying and causing organisms. SPS measures can take such forms as specific product or processing standards, requirements for products to be produced in disease-free areas, quarantine regulations, certification or inspection procedures, sampling and testing requirements, health-related labeling measures, maximum permissible pesticide residue levels, and prohibitions on certain food additives.

For further information on SPS measures and additional detail on the types of comments that would assist USTR in identifying and addressing significant trade-restrictive SPS measures, please see “Supporting & Related Materials” under dockets USTR-2013-0033 at www.regulations.gov. The previously released SPS Reports also contain extensive information on SPS measures that commenters may find useful in preparing comments in response to this notice.

In responding to this notice with respect to the report, commenters should place particular emphasis on any practices that the commenter believes may violate U.S. trade agreements. The TPSC is also interested in receiving new or updated information pertinent to the barriers covered in the 2013 SPS Report as well as information on new barriers. If USTR does not include in the 2014 SPS Report information that USTR receives pursuant to this notice, USTR will maintain the information for potential use in future discussions or negotiations with trading partners.

Estimate of Increase in Exports: Each comment should include an estimate of the potential increase in U.S. exports that would result from removing any SPS barrier the comment identifies, as well as a description of the methodology the commenter used to derive the estimate. Estimates should be expressed within the following value ranges: Less than $5 million; $5 to $25 million; $25 million to $50 million; $50 million to $100 million; $100 million to $500 million; or over $500 million. These estimates will help USTR conduct comparative analyses of a barrier's effect over a range of industries.

Requirements for Submissions: Commenters providing information on SPS measures in more than one country should, whenever possible, provide a separate submission for each country.

In order to ensure the timely receipt and consideration of comments, USTR strongly encourages commenters to make on-line submissions, using the http://www.regulations.gov Web site. Comments should be submitted under docket number: USTR-2013-0033

To make a submission, enter the docket number in the “Enter Keyword or ID” window at the http://www.regulations.gov home page and click “Search.” The site will provide a search-results page listing all documents associated with that docket number. Find a reference to this notice on the search-results page, and click on the link entitled “Comment Now!” (For further information on using the www.regulations.gov Web site, please consult the resources provided on the Web site by clicking on the “Help” tab.)

The http://www.regulations.gov Web site provides the option of making submissions by filling in a comments field, or by attaching a document. USTR prefers submissions to be provided in an attached document. If a document is attached, please identify the name of the country to which the submission pertains in the “Type Comment” field. For example: “See attached comment on SPS measures for (name of country)” USTR prefers submissions in Microsoft Word (.doc) or Adobe Acrobat (.pdf).

For any comments submitted electronically containing business confidential information, the file name of the business confidential version should begin with the characters “BC”. The top of any page containing business confidential information must be clearly marked “BUSINESS CONFIDENTIAL”. Any person filing comments that contain business confidential information must also file in a separate submission a public version of the comments. The file name of the public version of the comments should begin with the character “P”. The “BC” and “P” should be followed by the name of the person or entity submitting the comments. If a comment contains no business confidential information, the file name should begin with the name of the person or entity submitting the comments.

Please do not attach separate cover letters to electronic submissions; rather, include any information that might appear in a cover letter in the comments themselves. Similarly, to the extent possible, please include any exhibits, annexes, or other attachments in the same file as the submission itself, not as separate files.

Public Inspection of Submissions

Comments will be placed in the docket and open to public inspection except confidential business information exempt from public inspection. Comments may be viewed on the http://www.regulations.gov Web site by entering the relevant docket number in the search field on the home page.

William Shpiece,
Acting Chair, Trade Policy Staff Committee.

[FR Doc. 2013-24722 Filed 10-22-13; 8:45 am]

BILLING CODE 3290-F3-P